DEPARTMENT OF THE INTERIOR

National Park Service

Announcement of Subsistence Resource Commission Meeting

AGENCY: National Park Service, Interior.

SUMMARY: The Superintendent of Lake Clark National Park and Preserve and the Chair of the Lake Clark Subsistence Resource Commission announce a forthcoming meeting of the Subsistence Resource Commission for Lake Clark National Park. The following agenda items will be discussed:

(1) Call to order.

(2) Roll call—Confirm Quorum.

(3) Introductions.

(4) Superintendent's Welcome.

(5) Additions, corrections and agenda approval.

(6) Approval of SRC meeting minutes—February 29, 2000.

(7) SRC Purpose and Role.

(8) Status of Membership.

(9) Park Subsistence Coordinator's Report.

(10) Report on Federal Subsistence Board.

(a) Actions taken on proposals.

(b) Rural Status for Kenai.

(c) Call For Proposals.

(11) Old Business.

(a) Approval of Lake Clark Subsistence management plan.

(b) Call for Proposals.

(12) Federal Subsistence Fisheries Management Report.

(13) Agency Reports and Public Comments.

(14) SRC Work Session—Prepare correspondence/recommendations.

(15) Set time and place of next meeting.

(16) Adjournment.

DATES: The meeting will begin at 10 a.m. on Thursday, October 5, 2000 and conclude around 4:30 p.m.

Location: The meeting will be held at the Iliamna Community Hall, Iliamna, Alaska 99606 Phone (907) 571-1246.

FOR FURTHER INFORMATION CONTACT: Lee Fink, Chief of Operations, 4230 University Drive, Suite 311, Anchorage, Alaska 99508, Phone (907) 271-3751 or Karen Stickman, Subsistence Coordinator, 1 Park Place, Port Alsworth, Alaska 99653, Phone (907) 781-2218.

SUPPLEMENTARY INFORMATION: The Subsistence Resource Commissions are authorized under Title VIII, Section 808, of the Alaska National Interest Lands Conservation Act, Pub. L. 96-487, and operate in accordance with the provisions of the Federal Advisory Committees Act. Note that under the Freedom of Information Act (FOIA), transcripts of any person giving public comments may be made available under a FOIA request.

Kevin Apgar,
Acting Regional Director.

[FR Doc. 00-23877 Filed 9-15-00; 8:45 am]

BILLING CODE 4310-70-P